DEPARTMENT OF TRANSPORTATION

National Highway Traffic Safety Administration

[Docket No. NHTSA-2003-15681]

Extension of Comment Period on Whether Nonconforming 2003 Ferrari 360 Spider and Coupe Passenger Cars Are Eligible for Importation

AGENCY: National Highway Traffic Safety Administration (NHTSA), DOT.

ACTION: Extension of comment period.

SUMMARY: This document announces the extension of the comment period on a petition for NHTSA to decide that 2003 Ferrari 360 Spider and Coupe passenger cars that were not originally manufactured to comply with all applicable Federal motor vehicle safety standards are eligible for importation into the United States.

DATES: The closing date for comments on the petition is September 16, 2003.

ADDRESSES: Comments are to be submitted to: Docket Management, Room PL-401, 400 Seventh Street, SW., Washington, DC 20590. [Docket hours are from 9 am to 5 pm]. Anyone is able to search the electronic form of all comments received into any of our dockets by the name of the individual submitting the document (or signing the comment, if submitted on behalf of an association, business, labor union, etc.). You may review DOT's complete Privacy Act Statement in the Federal Register published on April 11, 2000 (Volume 65, Number 70; Pages 19477-787) or you may visit http://dms.dot.gov.

FOR FURTHER INFORMATION CONTACT: Coleman Sachs, Office of Vehicle Safety Compliance, NHTSA (202-366-3151).

SUPPLEMENTARY INFORMATION: On August 1, 2003, NHTSA published a notice (at 68 FR 45309) that it had received a petition to decide that nonconforming 2003 Ferrari 360 Spider and Coupe passenger cars are eligible for importation into the United States. The notice solicited public comments on the petition and stated that the closing date for comments is September 2, 2003.

This is to notify the public that NHTSA is extending the comment period on this petition, and allowing it to run until September 16, 2003. This reopening is based on a request dated August 25, 2003, from Ferrari North America, Inc. (“Ferrari”), the U.S. representative of the vehicle's manufacturer. Ferrari stated that the extension was needed because the personnel and information required for its analysis of the petition are located at the company's factory in Italy, and that the necessary personnel were unavailable for much of the month of August due to the traditional August holiday that is taken in that country. Owing to the technical nature of the analysis that Ferrari stated is necessary to assess the petition and conformance issues raised therein, the company asserted that the unavailability of its Italy-based personnel and information made it impossible for it to complete its analysis before the closing date specified in the notice of petition. The company contended that a two-week extension would not prejudice the parties or unduly delay the proceeding.

NHTSA has granted Ferrari's request. All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(B) and (b)(1); 49 CFR 593.8; delegations of authority at 49 CFR 1.50 and 501.8.

Issued on: September 4, 2003.
Kenneth N. Weinstein,
Associate Administrator for Enforcement.

[FR Doc. 03-23047 Filed 9-9-03; 8:45 am]

BILLING CODE 4910-59-P